ENVIRONMENTAL PROTECTION AGENCY

[FRL-7145-7]

Privacy Act of 1974: Republication of Existing System of Records

AGENCY: Environmental Protection Agency.

ACTION: Notice; Amendment to notice of privacy act system of records.

SUMMARY: The Environmental Protection Agency (EPA) is proposing to amend the existing Privacy Act system of records.

EFFECTIVE DATES: The proposed amendments will be effective upon publication.

ADDRESSES: Send written comments to Judy E. Hutt, Agency Privacy Act Officer, 1200 Pennsylvania Ave. (2822) Washington, DC 20460.

FOR FURTHER INFORMATION CONTACT: Judy E. Hutt, Agency Privacy Act Officer, 1200 Pennsylvania Ave. (2822) Washington, DC 20460; Telephone (202) 260-6131.

SUPPLEMENTARY INFORMATION: This section summarizes the changes to each existing system of records. The summaries focus on alternations in name or function, changes in routine uses, and other major changes. Each summary includes the name of the contact person for the system who provided information for this report.

To the greatest extent possible, the old system numbers have been retained for new systems. Thus, old EPA-1 (Payroll System) remains as EPA-1. In some instances, the system number remains the same even though the name of the system has been updated. Systems number not in current use remain unused under the revisions. There was no old number 6, and there is no new number 6. Numbers for systems proposed for deletion will not be reused. Old number 16, which was used by two existing systems, will not be reused. One old number 16 is obsolete, and the other is renumbered. New systems and systems that have been substantially revised (e.g., OIG systems) are assigned new numbers beginning with 38.

All revised system notices reflect appropriate changes in location and office name. Routine uses for all systems now refer to the General Routine Uses Applicable to More than One System of Records, and this entailed some revisions. The revisions standardize the sections of most system notices for notification, record access, and contesting record procedures. The description of storage and retrieval policies and practices reflect the use of computer technology as appropriate for each system. The new notices also include appropriate editorial changes.

Dated: October 25, 2001.
Margaret Schneider,
Acting Assistant Administrator, Office of Environmental Information.

General Routine Uses Applicable to More than One System of Records

A. Disclosure for Law Enforcement Purposes

Information may be disclosed to the appropriate Federal, State, local, tribal, or foreign agency responsible for investigating, prosecuting, enforcing, or implementing a statute, rule, regulation, or order, if the information is relevant to a violation or potential violation of civil or criminal law or regulation within the jurisdiction of the receiving entity.

B. Disclosure Incident to Requesting Information

Information may be disclosed to any source from which additional information is requested (to the extent necessary to identify the individual, inform the source of the purpose of the request, and to identify the type of information requested), when necessary to obtain information relevant to an agency decision concerning retention of an employee or other personnel action (other than hiring), retention of a security clearance, the letting of a contract, or the issuance or retention of a grant, or other benefit.

C. Disclosure to Requesting Agency

Disclosure may be made to a Federal, State, local, foreign, or tribal or other public authority of the fact that this system of records contains information relevant to the retention of an employee, the retention of a security clearance, the letting of a contract, or the issuance or retention of a license, grant, or other benefit. The other agency or licensing organization may then make a request supported by the written consent of the individual for the entire record if it so chooses. No disclosure will be made unless the information has been determined to be sufficiently reliable to support a referral to another office within the agency or to another Federal agency for criminal, civil, administrative, personnel, or regulatory action.

D. Disclosure to Office of Management and Budget

Information may be disclosed to the Office of Management and Budget at any stage in the legislative coordination and clearance process in connection with private relief legislation as set forth in OMB Circular No. A-19.

E. Disclosure to Congressional Offices

Information may be disclosed to a congressional office from the record of an individual in response to an inquiry from the congressional office made at the request of the individual.

F. Disclosure to Department of Justice

Information may be disclosed to the Department of Justice, or in a proceeding before a court, adjudicative body, or other administrative body before which the Agency is authorized to appear, when:

1. The Agency, or any component thereof; or

2. Any employee of the Agency in his or her official capacity; or

3. Any employee of the Agency in his or her individual capacity where the Department of Justice or the Agency has agreed to represent the employee; or

4. The United States, if the Agency determines that litigation is likely to affect the Agency or any of its components, is a party to litigation or has an interest in such litigation, and the use of such records by the Department of Justice or the Agency is deemed by the Agency to be relevant and necessary to the litigation provided, however, that in each case it has been determined that the disclosure is compatible with the purpose for which the records were collected.

G. Disclosure to the National Archives

Information may be disclosed to the National Archives and Records Administration in records management inspections.

H. Disclosure to Contractors, Grantees, and Others

Information may be disclosed to contractors, grantees, consultants, or volunteers performing or working on a contract, service, grant, cooperative agreement, job, or other activity for the Agency and who have a need to have access to the information in the performance of their duties or activities for the Agency. When appropriate, recipients will be required to comply with the requirements of the Privacy Act of 1974 as provided in 5 U.S.C. 552a(m).

I. Disclosures for Administrative Claims, Complaints, and Appeals

Information from this system of records may be disclosed to an authorized appeal grievance examiner, formal complaints examiner, equal employment opportunity investigator, arbitrator or other person properly engaged in investigation or settlement of an administrative grievance, complaint, claim, or appeal filed by an employee, but only to the extent that the information is relevant and necessary to the proceeding. Agencies that may obtain information under this routine use include, but are not limited to, the Office of Personnel Management, Office of Special Counsel, Merit Systems Protection Board, Federal Labor Relations Authority, Equal Employment Opportunity Commission, and Office of Government Ethics.

J. Disclosure to the Office of Personnel Management

Information from this system of records may be disclosed to the Office of Personnel Management pursuant to that agency's responsibility for evaluation and oversight of Federal personnel management.

K. Disclosure in Connection with Litigation

Information from this system of records may be disclosed in connection with litigation or settlement discussions regarding claims by or against the Agency, including public filing with a court, to the extent that disclosure of the information is relevant and necessary to the litigation or discussions and except where court orders are otherwise required under section (b)(11) of the Privacy Act of 1974, 5 U.S.C. 552a(b)(11).

EPA-1

System Name:

EPA's Payroll and Personnel System (EPAYS).

System Location:

National Computer Center, Environmental Protection Agency, Research Triangle Park, North Carolina 27711; other EPA offices. See the appendix for addresses of regional and other offices.

Categories of Individuals Covered by the System:

Current and former EPA employees; Surface Transportation Board (formerly the Interstate Commerce Commission, Department of Transportation); and Health and Human Services Public Health Service Commissioned Officers.

Categories of Records Covered by the System:

This system contains records relating to pay, cash awards, and leave. This includes, but is not limited to, information such as names, date of birth, social security numbers, home addresses, grade, employing organization, salary, pay plan, number of hours worked, overtime, compensatory time, leave accrual rate, usage, and balances, Civil Service Retirement and Federal Retirement System contributions, including Thrift Savings Plan, FICA withholdings, Federal, state, and city tax withholdings, Federal Employee Group Life Insurance withholdings, Federal Employee Health Benefits withholdings, charitable deductions; allotments to financial organizations, garnishment documents, savings bonds allotments, union dues withholdings, deductions for Internal Revenue Service levies, court ordered child support levies, Federal salary offset deductions, and information on the Leave Transfer Program and the Leave Bank Program.

Authority for Maintenance of the System (includes any revisions or amendments):

5 U.S.C. 5101 et seq.; 5 U.S.C. 5501 et seq.; 5 U.S.C. 5525 et seq.; 5 U.S.C. 5701 et seq.; 5 U.S.C. 6301 et seq.; 31 U.S.C. 3512; Executive Order 9397 (Nov. 22, 1943).

Purpose(s):

The records are used to administer EPA's pay and leave requirements, including processing, accounting and reporting requirements. (Date of last system revision: 2/1/01).

Routine Uses of Records Maintained in the System, Including Categories of Users, and the Purposes of Such Uses:

General routine uses A, B, C, D, E, F, G, H, I, J, and K apply to this system. Records may also be disclosed:

1. To the Department of Treasury to issue checks, make payments, make electronic funds transfers, and issue U.S. Savings Bonds.

2. To the Department of Agriculture National Finance Center to credit Thrift Savings Plan deductions and loan payments to employee accounts.

3. To the Department of Labor in connection with a claim filed by an employee for compensation due to a job connected injury or illness.

4. To the Internal Revenue Service; Social Security Administration; and State and local tax authorities in connection with the withholding of employment taxes.

5. To State Unemployment Office in connection with a claim filed by former employees for unemployment benefits.

6. To the officials of labor organizations as to the identity of employees contributing union dues each pay period and the amount of dues withheld from each employee.

7. To the Office of Personnel Management and to Health Benefit carriers in connection with enrollment and payroll deductions.

8. To the Office of Personnel Management in connection with employee retirement and life insurance deductions.

9. To Combined Federal Campaign in connection with payroll deductions for charitable contributions.

10. To the Office of Management and Budget, and Department of Treasury to provide required reports on financial management responsibilities.

11. To provide information as necessary to other Federal, State, local or foreign agencies conducting computer matching programs to help eliminate fraud and abuse and to detect unauthorized overpayments made to individuals. When disclosures are made as part of computer matching programs, EPA will comply with the Computer Matching and Privacy Protection Act of 1988.

12. To the Internal Revenue Service in connection with withholdings for tax levies.

13. To the Social Security Administration and the Department of Health and Human Services to provide information on newly hired employees for child support enforcement Purposes.

14. To the Department of Health and Human Services in connection with the master personnel and payroll files for their Public Health Services Officers.

Policies and Practices For Storing, Retrieving, Accessing, Retaining, and Disposing of Records in the System:

Storage:

Computer systems, tapes, disks, microfiche and other hard copy formats. Mainframe computers, tapes, and disks are located in Research Triangle Park, North Carolina. Backup tapes are maintained at a disaster recovery site.

Retrievability:

Primarily by social security number. Employee name is used as a secondary identifier.

Safeguards:

Computer records are maintained in a secure, password protected computer system. Paper records are maintained in lockable file cabinets. All records are maintained in secure, access-controlled areas or buildings.

Retention and Disposal:

Employee records are retained on magnetic tapes for an indefinite period. Microfiche and manual reports are maintained for varying periods of time, at which time they are disposed of by shredding.

System Manager(s) and Address:

Director, Financial Management Division, Environmental Protection Agency, Ariel Rios Building, 1200 Pennsylvania Avenue NW, Washington, DC 20460.

Notification Procedures:

Any individual who wants to know whether this system of records contains a record about him or her, who wants access to his or her record, or who wants to contest the contents of a record, should make a written request to the System Manager(s) and Address.

Record Access Procedure:

Requesters will be required to provide adequate identification, such as a driver's license, employee identification card, or other identifying document. Additional identification procedures may be required in some instances.

Contesting Record Procedure:

Requests for correction or amendment must identify the record to be changed and the corrective action sought. Complete EPA Privacy Act procedures are set out in 40 CFR part 16.

Record Source Categories:

Record subjects, supervisors, consumer reporting agencies, debt collection agencies, Department of Treasury, and other Federal agencies.

EPA-3

System Name:

Wellness Program Medical Records.

System Location:

Health Unit, Environmental Protection Agency, Ariel Rios Building, 1200 Pennsylvania Avenue NW, Washington, DC 20460. EPA offers medical services to employees through a national agreement with the Federal Occupational Health Service of the Public Health Service. Most EPA regional offices have a similar arrangement, although a different contractor provides services in one or more regional offices. See the appendix for addresses of regional and other offices.

Categories of Individuals Covered by the System:

EPA employees, contract employees, and EPA visitors requiring or requesting medical attention and EPA employees participating in Stress Lab.

Categories of Records in the System:

Employee health records.

Authority for Maintenance of the System (includes any revisions or amendments):

5 U.S.C. 7901 et seq.

Purpose(s):

To document health treatments and related services offered by the Health Unit.

Routine Uses of Records Maintained in the System, Including Categories of Users, and the Purposes of Such Uses:

General routine uses F, H, and K apply to this system.

Policies and Practices For Storing, Retrieving, Accessing, Retaining, and Disposing of Records in the System:

Storage:

Hard copy files (handwritten or typed cards, forms, files, and EKG graphs); some identifying information is also maintained on a computerized index.

Retrievability:

By name.

Safeguards:

Computer records are maintained in a secure, password protected computer system. Paper records are maintained in lockable file cabinets. All records are maintained in secure, access-controlled areas or buildings.

Retention and Disposal:

Records are maintained until an employee leaves EPA. Records are sealed and sent to the Personnel Office for inclusion in the official personnel folder, which is sent to a federal records center. Records may be transferred to a new federal employer.

System Manager(s) and Address:

National Program Branch Chief, Safety, Health and Environmental Management Division, Environmental Protection Agency, Ariel Rios Building, 1200 Pennsylvania Avenue NW, Washington, DC 20460.

Notification Procedures:

Any individual who wants to know whether this system of records contains a record about him or her, who wants access to his or her record, or who wants to contest the contents of a record, should make a written request to the System Manager.

Record Access Procedure:

Requesters will be required to provide adequate identification, such as a driver's license, employee identification card, or other identifying document. Additional identification procedures may be required in some instances.

Contesting Record Procedure:

Requests for correction or amendment must identify the record to be changed and the corrective action sought. Complete EPA Privacy Act procedures are set out in 40 CFR part 16. Pursuant to 5 U.S.C. 552a(f)(3), records relating to psychiatric matters may be made available to a record subject through a physician.

Record Source Categories:

Patients, patient's doctors, on approval of patient, accident/incidence reports, family members of patients, and past Federal employer medical records.

EPA-9

System Name:

Freedom of Information Act Request and Appeal File.

System Location:

(1) Freedom of Information Section, Office of the Administrator, Environmental Protection Agency, Ariel Rios Building, 1200 Pennsylvania Avenue NW, Washington, DC 20460.

(2) EPA Regional Offices. See the appendix for addresses of regional offices.

(3) EPA, Office of General Counsel, Ariel Rios Building, 1200 Pennsylvania Avenue NW, Washington, DC 20460.

Categories of Individual Covered by the System:

All persons requesting information or filing appeals under the Freedom of Information Act.

Categories of Records in the System:

A copy of each Freedom of Information Act request received and a copy of all correspondence related to the request, including name, affiliation address, telephone numbers, and other information about a requester. A computerized index includes the name and affiliation of each requester, the request identification number, and the subject.

Authority for Maintenance of the System (includes any revisions or amendments):

5 U.S.C. 552.

Purpose(s):

To respond to FOIA requests and to prepare reports on FOIA activities.

Routine Uses of Records Maintained in the System, Including Categories of Users, and the Purposes of Such Uses:

General routine uses A, E, F, G, H and K apply to this system. Records may also be disclosed:

1. To another Federal agency (a) with an interest in the record in connection with a referral of a Freedom of Information Act (FOIA) request to that agency for its views or decision on disclosure, or (b) in order to obtain advice and recommendations concerning matters on which the agency has specialized experience or particular competence that may be useful to EPA in making required determinations under the FOIA.

Policies and Practices For Storing, Retrieving, Accessing, Retaining, and Disposing of Records in the System:

Storage:

In file folders. An index is maintained in a computer database.

Retrievability:

By name of requester and request identification number.

Safeguards:

Computer records are maintained in a secure, password protected computer system. Paper records are maintained in lockable file cabinets. All records are maintained in secure, access-controlled areas or buildings.

Retention and Disposal:

Records are maintained in accordance with EPA Records Control Schedules.

System Manager(s) and Address and address:

Director, Office of Executive Secretariat, Freedom of Information Section, Office of the Administrator, Environmental Protection Agency, Ariel Rios Building, 1200 Pennsylvania Avenue NW, Washington, DC 20460.

Notification Procedures:

Any individual who wants to know whether this system of records contains a record about him or her, who wants access to his or her record, or who wants to contest the contents of a record, should make a written request to the System.

Record Access Procedure:

Requesters will be required to provide adequate identification, such as a driver's license, employee identification card, or other identifying document. Additional identification procedures may be required in some instances.

Contesting Record Procedure:

Requests for correction or amendment must identify the record to be changed and the corrective action sought. Complete EPA Privacy Act procedures are set out in 40 CFR part 16.

Record Source Categories:

Incoming Freedom of Information Act requests and related correspondence from the record subject; EPA offices.

EPA-10

System Name:

EPA Parking Control Office File.

System Location:

Transit Management Section, Facilities Management and Services Division, Environmental Protection Agency, Ariel Rios Building, 1200 Pennsylvania Avenue NW, Washington, DC 20460. Some regional and other EPA offices may also maintain parking records. See the appendix for addresses of regional and other offices.

Categories of Individuals Covered by the System:

Individuals holding parking permits from EPA, including individuals in existing carpools whose principal member is an EPA employee. Other carpool members may be employed by other Federal agencies or private industry.

Categories of Records in the System:

Permit applications, permit numbers, EPA Form 5160.1, including name, social security number, home and work address, home and work telephone numbers of EPA employees holding parking permits, the name and address of carpool members, and related information.

Authority for Maintenance of the System (includes any revisions or amendments):

EPA Administrative Services Manual, Chapter 11, dated April 23, 1975; 41 CFR 101-20.104.

Purpose(s):

To manage parking control and the carpool system, and to enforce parking regulations.

Routine Uses of Records Maintained in the System, Including Categories of Users, and the Purposes of Such Uses:

General Routine Uses A, E, F, G, H, I, and K apply to this system.

Records may also be disclosed:

1. To the public through a carpool matching system. Disclosures are limited to the name, telephone number, and zip code of carpool members.

Policies and Practices For Storing, Retrieving, Accessing, Retaining, and Disposing of Records in the System:

Storage:

In a computer database and in file folders.

Retrievability:

Principally by name, permit number, and zip code.

Safeguards:

Computer records are maintained in a secure, password protected computer system. Paper records are maintained in lockable file cabinets. All records are maintained in secure, access-controlled areas or buildings.

Retention and Disposal:

Records are maintained for three years after the expiration of the contract with the contractor for the system.

System Manager(s) and Address:

Team Leader, Transit Management Section, Facilities Management and Services Division, Environmental Protection Agency, Ariel Rios Building, 1200 Pennsylvania Avenue NW, Washington, DC 20460.

Notification Procedures:

Any individual who wants to know whether this system of records contains a record about him or her, who wants access to his or her record, or who wants to contest the contents of a record, should make a written request to the System Manager.

Record Access Procedure:

Requesters will be required to provide adequate identification, such as a driver's license, employee identification card, or other identifying document. Additional identification procedures may be required in some instances.

Contesting Record Procedure:

Requests for correction or amendment must identify the record to be changed and the corrective action sought. Complete EPA Privacy Act procedures are set out in 40 CFR part 16.

Record Source Categories:

Record subjects.

EPA-14

System Name:

OPP Time Accounting Information System.

System Location:

Office of Pesticide Programs, Environmental Protection Agency, Ariel Rios Building, 1200 Pennsylvania Avenue NW, Washington, DC 20460.

Categories of Individuals Covered by the System:

Most current and past Office of Pesticide Programs (OPP) employees.

Categories of Records in the System:

OPP employee names, employee identification numbers, hours worked during each pay period, and work-activity classification for each pay period.

Authority for Maintenance of the System (includes any revisions or amendments):

Pub. L. 95-396, 92 Stat. 838, 7 U.S.C. 136y.

Purpose(s):

The records are used as a data source for management information to produce summary descriptive statistics and analytical studies reflecting the OPP allocations of costs and work-hours by budget decision unit.

Routine Uses of Records Maintained in the System, Including Categories of Users, and the Purposes of Such Uses:

General routine uses A, E, F, G, H, I, and K apply to this system.

Policies and Practices For Storing, Retrieving, Accessing, Retaining, and Disposing of Records in the System:

Storage:

On time sheets and in a computerized database.

Retrievability:

By employee number, name, and organization.

Safeguards:

Computer records are maintained in a secure, password protected computer system. Paper records are maintained in lockable file cabinets. All records are maintained in secure, access-controlled areas or buildings.

Retention and Disposal:

Paper forms are kept for three years and are then shredded. Computer records may be kept indefinitely.

System Manager(s) and Address:

Chief, Resource Management Staff, Office of Pesticide Programs, Environmental Protection Agency, Ariel Rios Building, 1200 Pennsylvania Avenue NW, Washington, DC 20460.

Notification Procedures:

See Contesting Record Procedures.

Record Access Procedures:

See Contesting Record Procedures.

Contesting Record Procedures:

Any individual who wants to know whether this system of records contains a record about him or her, who wants access to his or her record, or who wants to contest the contents of a record, should make a written request to the System Manager(s) and Address. Requesters will be required to provide adequate identification, such as a driver's license, employee identification card, or other identifying document. Additional identification procedures may be required in some instances. Requests for correction or amendment must identify the record to be changed and the corrective action sought. Complete EPA Privacy Act procedures are set out in 40 CFR part 16.

Record Source Categories:

Record subjects.

EPA-19

System Name:

EPA Identification Card Record.

System Location:

1. Facilities Management and Services Division, Security and Property Management Branch, Environmental Protection Agency, Ariel Rios Building, 1200 Pennsylvania Avenue NW, Washington, DC 20460;

2. Regional and other EPA offices. See the appendix for addresses of regional and other offices.

Categories of Individuals Covered by the System:

EPA employees and EPA contact employees and grantees who require access to EPA buildings and offices.

Categories of Records in the System:

1. EPA Form 5110-1, EPA Identification Card Acknowledgment which contains the following information: Name, EPA identification card number, height, weight, color of eyes/hair, date of birth, social security number, position title, grade, EPA office location, signature, date of issuance, and a photograph of the person issued the identification card.

2. EPA Form 1480-39, Official U.S. Government Identification, which contains the following information: Name, social security number, location, date of birth, height, weight, color of eyes/hair, signature, card number, date of issuance and photograph of person issued the identification card.

Authority for Maintenance of the System (includes any revisions or amendments):

Federal Property and Administrative Services Act of 1949, 40 U.S.C. 486(c).

Purpose(s):

To issue official U.S. Government Identification cards to EPA employees and EPA contract employees requiring access to EPA buildings and offices; to maintain a record of all holders of identification cards, for renewal and recovery of expired cards, and to identify lost or stolen cards; to identify Headquarters employees whose names have not been entered in the EPA locator system.

Routine Uses of Records Maintained in the System, Including Categories of Users, and the Purposes of Such Uses:

General routine uses A, E, F, G, H, and K apply to this system.

Policies and Practices For Storing, Retrieving, Accessing, Retaining, and Disposing of Records in the System:

Storage: Older records are stored in file folders in file cabinets. Newer records are stored on a standalone computer database.

Retrievability:

By name of the data subject.

Safeguards:

Computer records are maintained in a secure, password protected computer system. Paper records are maintained in lockable file cabinets. All records are maintained in secure, access-controlled areas or buildings.

Retention and Disposal:

Records are destroyed three months after termination of employment or severance of association with EPA.

System Manager(s) and Address:

Headquarters: Chief, Security and Property Management Branch, Facilities Management and Services Division, Environmental Protection Agency, Ariel Rios Building, 1200 Pennsylvania Avenue NW, Washington, DC 20460; Other locations: General Services Manager at offices listed in the Appendix.

Notification Procedures:

Any individual who wants to know whether this system of records contains a record about him or her, who wants access to his or her record, or who wants to contest the contents of a record, should make a written request to the System Manager.

Record Access Procedure:

Requesters will be required to provide adequate identification, such as a driver's license, employee identification card, or other identifying document. Additional identification procedures may be required in some instances.

Contesting Record Procedure:

Requests for correction or amendment must identify the record to be changed and the corrective action sought. Complete EPA Privacy Act procedures are set out in 40 CFR part 16.

Record Source Categories:

Record subjects and EPA personnel records.

EPA-20

System Name:

Toxic Substances Control Act Confidential Business Information Records Access System.

System Location:

Office of Pollution Prevention and Toxics, Information Management Division, Environmental Protection Agency, Ariel Rios Building, 1200 Pennsylvania Avenue NW, Washington, DC 20460.

Categories of Individuals Covered by the System:

EPA and other Federal agency employees and Office of Pollution Prevention and Toxics contractor employees who are or have ever been authorized for access to Toxic Substances Control Act Confidential Business Information (TSCA CBI).

Categories of Records in the System:

The system contains basic identification information such as name, social security number, EPA identification card number, date and place of birth, office of contractor for which the individual works and telephone number. In addition, the system contains information pertinent to TSCA CBI access such as security briefing date, date added to system, date deleted from system and type of access authorized.

Authority for Maintenance of the System (includes any revisions or amendments):

Toxic Substances Control Act, 15 U.S.C. 2601 et seq.

Purpose(s):

To maintain a record of those persons cleared for access to TSCA CBI and to maintain the security of TSCA CBI.

Routine Uses of Records Maintained in the System, Including Categories of Users, and the Purposes of Such Uses:

General routine uses A, B, C, D, E, F, G, H, and K apply to this system. Records may also be disclosed:

1. To other Federal agencies when they possess TSCA CBI and need to verify clearance of EPA, other Federal agency and EPA contractor employees for access.

Policies and Practices For Storing, Retrieving, Accessing, Retaining, and Disposing of Records in the System:

Storage:

Current records are maintained in a computer database. Some older records are maintained in hard copy files.

Retrievability:

From the computer database by addressing any type of data contained in the database, including name. From alphabetized hard copy files by name.

Safeguards:

Computer records are maintained in a secure, password protected computer system. Paper records are maintained in safes. All records are maintained in secure, access-controlled areas or buildings.

Retention and Disposal:

Information in this system is maintained and updated for so long as individuals identified in the system are authorized for access to TSCA CBI.

System Manager(s) and Address:

Director, Information Management Division, Office of Pollution Prevention and Toxics, Environmental Protection Agency, Ariel Rios Building, 1200 Pennsylvania Avenue NW, Washington, DC 20460.

Notification Procedures:

Any individual who wants to know whether this system of records contains a record about him or her, who wants access to his or her record, or who wants to contest the contents of a record, should make a written request to the System Manager.

Record Access Procedure:

Requesters will be required to provide adequate identification, such as a driver's license, employee identification card, or other identifying document. Additional identification procedures may be required in some instances.

Contesting Record Procedure:

Requests for correction or amendment must identify the record to be changed and the corrective action sought. Complete EPA Privacy Act procedures are set out in 40 CFR part 16.

Record Source Categories:

Record subjects provide identification information. EPA personnel add information about dates and type of access authorized.

EPA-22

System Name:

National Correspondence Tracking and Information Management System.

System Location:

Office of the Executive Secretariat, Environmental Protection Agency, Ariel Rios Building, 1200 Pennsylvania Avenue NW, Washington, DC 20460. Most EPA offices, including regional offices, access and maintain some records in this system. See the appendix for addresses of regional and other offices.

Categories of Individuals Covered by the System:

Persons from the private sector, White House staff, and other persons from the public sector (Federal, state and local) who send correspondence to the Administrator, Deputy Administrator, or to other EPA offices and regions.

Categories of Records in the System:

Controlled correspondence, including name and address of correspondent, copies of incoming letter, EPA's response, and correspondence control number when assigned.

Authority for Maintenance of the System (includes any revisions or amendments):

5 U.S.C. 301.

Purpose(s):

To respond to correspondence requiring correspondence controls from the public and private sectors.

Routine Uses of Records Maintained in the System, Including Categories of Users, and the Purposes of Such Uses:

General routine uses A, B, C, D, E, F, G, H, I, J, and K apply to this system. Records may be also disclosed:

1. To a Federal, State or local agency when a response by that agency rather than EPA is more appropriate.

Policies and Practices For Storing, Retrieving, Accessing, Retaining, and Disposing of Records in the System:

Storage:

File folders and computer database.

Retrievability:

By the name of the individual correspondent and the correspondence control number when assigned. Computer records can also be retrieved by other data fields.

Safeguards:

Computer records are maintained in a secure, password protected computer system. Paper records are maintained in lockable file cabinets. All records are maintained in secure, access-controlled areas or buildings.

Retention and Disposal:

Some controlled correspondence records are permanent. Correspondence from Division Directors and below is retained for ten years. All other correspondence records are destroyed when five years old.

System Manager(s) and Address:

Director, Office of the Executive Secretariat, Environmental Protection Agency, Ariel Rios Building, 1200 Pennsylvania Avenue NW, Washington, DC 20460.

Notification Procedures:

Any individual who wants to know whether this system of records contains a record about him or her, who wants access to his or her record, or who wants to contest the contents of a record, should make a written request to the System.

Record Access Procedure:

Requesters will be required to provide adequate identification, such as a driver's license, employee identification card, or other identifying document. Additional identification procedures may be required in some instances.

Contesting Procedure:

Requests for correction or amendment must identify the record to be changed and the corrective action sought. Complete EPA Privacy Act procedures are set out in 40 CFR part 16.

Record Source Categories:

Record subjects and EPA offices that prepared the response.

EPA-23

System Name:

EPA Credential Information Records.

System Location:

Office of Inspector General credential records: Office of the Inspector General, Environmental Protection Agency, Ariel Rios Building, 1200 Pennsylvania Avenue NW, Washington, DC 20460; All other credential records: Security and Property Management Branch, Facilities Management and Services Division, Environmental Protection Agency, Ariel Rios Building, 1200 Pennsylvania Avenue NW, Washington, DC 20460.

Categories of Individuals Covered by the System:

EPA employees who are required to carry credentials that identify the bearer as having the authority to act in an official enforcement, inspection, or investigative capacity.

Categories of Records in the System:

This system contains all or part of the following information: Name of individual, title, grade, position, location, credential number, expiration date, date issued, status.

Authority for Maintenance of the System (includes any revisions or amendments):

Federal Property and Administrative Services Act of 1949, 40 U.S.C. 486(c).

Purpose(s):

To issue official EPA credentials to designated Agency employees who are required to carry credentials to identify them as having the authority to act in an official enforcement, inspection, or investigative capacity; to maintain a record of all holders of credentials, for renewal and recovery of expired credentials, and to identify lost or stolen credentials.

Routine Uses of Records Maintained in the System, Including Categories of Users, and the Purposes of Such Uses:

General routine uses A, E, F, G, H, and K apply to this system. Records may also be disclosed:

1. To any person in response to a request to verify the credentials of an EPA employee.

Policies and Practices For Storing, Retrieving, Accessing, Retaining, and Disposing of Records in the System:

Storage:

File folders and computer database.

Retrievability:

By name, credential number, or location of the data subject.

Safeguards:

Computer records are maintained in a secure, password protected computer system. Paper records are maintained in lockable file cabinets. All records are maintained in secure, access-controlled areas or buildings.

Retention and Disposal:

Records are destroyed three months after separation or revocation of credential.

System Manager(s) and Address:

Office of Inspector General credential records: Assistant Inspector General for Management, Office of Inspector General, Environmental Protection Agency, Ariel Rios Building, 1200 Pennsylvania Avenue NW, Washington, DC 20460. All other credential records: Chief, Security and Property Management Branch, Environmental Protection Agency, Ariel Rios Building, 1200 Pennsylvania Avenue NW, Washington, DC 20460.

Notification Procedures:

Any individual who wants to know whether this system of records contains a record about him or her, who wants access to his or her record, or who wants to contest the contents of a record, should make a written request to the System Manager.

Record Access Procedure:

Requesters will be required to provide adequate identification, such as a driver's license, employee identification card, or other identifying document. Additional identification procedures may be required in some instances.

Contesting Record Procedure:

Requests for correction or amendment must identify the record to be changed and the corrective action sought. Complete EPA Privacy Act procedures are set out in 40 CFR part 16.

Record Source Categories:

Record subjects and the offices preparing credentials.

EPA-24

System Name:

Claims Office Master Files.

System Location:

Office of General Counsel, Environmental Protection Agency, Ariel Rios Building, 1200 Pennsylvania Avenue NW, Washington, DC 20460.

Categories of Individuals Covered by the System:

The Claims Office Master Files (COMF) contains claim records affecting individuals in six categories. COMF-TOR is composed of records covering individuals filing claims under the Federal Tort Claims Act, 28 U.S.C. 2671 et seq., for money damages for injury, death or damage caused by the negligence or wrongful acts or omissions of employees of EPA. COMF-FCC is comprised of records covering individuals who are indebted to EPA and against whom EPA has initiated actions under the Federal Claims Collection Act, as amended, 31 U.S.C. 3711 et seq. COMF-MCE is composed of records covering individuals making claims for loss or damage to personal property under the Military Personnel and Civilian Employees Claims act, 31 U.S.C. 3721. COMF-WAV is composed of records covering individuals requesting waiver under 5 U.S.C. 5584 of claims for erroneous payments of salary or transportation expenses. COMF-GAR is composed of records covering EPA employees whose salaries are garnished under 42 U.S.C. 659, 661-662 for alimony, child support, or commercial garnishments. COMF-RCD is composed of records covering individuals claiming reimbursement of collision deductible payments on rental vehicles.

Categories of Records in the System:

1. COMF-TOR contains records relating to tort claims against EPA. It may contain administrative claims, investigative reports, witness statements, certifications of scope of employment, damage estimates, medical records, letters to claimants, claimant responses, the Agency final decision on claims, and other records concerning tort claims. COMF-FCC contains documents relating to debts owed EPA by individuals, corporations, State and local governments, and Indian tribes. It may include documents which evidence the debt (e.g., audit reports, travel voucher, consent decrees, etc.), demand letters, debtor responses, credit reports, information obtained from private collection agencies, and other records concerning debt claims. It may contain the social security numbers of individual debtors to the extent such numbers are contained in travel vouchers or other documents upon which the debt is based.

2. COMF-MCE contains records relating to employee claims for loss or damage to personal property. It may contain administrative claim forms, investigative reports, supervisor's reports, accident reports, documentation of the amounts claimed as damages, the Agency final action on claims, and other records concerning employee property claims.

3. COMF-WAV contains records relating to employee requests for waiver by the Government of claims for erroneous payment of salary or travel expenses. It may contain employee request for waiver forms, investigative reports and recommendations, certifications of the amount of overpayment, personnel records relevant to overpayments, evidence of the Government's final action on the request, and other records concerning waiver requests. The social security number of the employee is contained in the file.

4. COMF-GAR contains legal documents supporting the garnishment of the salary of EPA employees. It may include the order of garnishment or attachment, notices to the employee of garnishment, responses by the employee, payroll information, and other records concerning garnishment requests. The social security number of the employee may be contained in the file.

5. COMF-RCD contains records required to settle claims against EPA employees for rental car damage deductible claims. It may contain rental agreements, accident reports, damage estimates, employee requests for reimbursement, travel vouchers, correspondence with rental car companies, evidence of the Agency final action on the claim, and other records concerning rental car deductible claims.

Authority for Maintenance of the System (includes any revisions or amendments):

COMF-TOR: 28 U.S.C. 2671 et seq. and 40 CFR part 10.

COMF-FCC: 31 U.S.C. 3711 et seq. and 4 CFR parts 101-105.

COMF-MCE: 31 U.S.C. 3721 and 40 CFR part 14.

COMF-WAV: 5 U.S.C. 5584 and 4 CFR parts 91-92.

COMF-GAR: 42 U.S.C. 659, 661-662 and 5 CFR part 581.

COMF-RCD: 5 U.S.C. 5704.

Purpose(s):

To assist the EPA Claims Office in managing its receipt, tracking, processing, and resolution of claims and to assist the Department of Justice and EPA in final resolution of claims.

Routine Uses of Records Maintained in the System, Including Categories of Users, and the Purposes of Such Uses:

General routine uses A, D, E, F, G, H, J, and K apply to this system. Records may also be disclosed:

1. To a Federal, State or local agency where necessary to enable EPA to obtain information relevant to an EPA decision concerning a claim by or against an employee.

2. Records maintained in the COMF-FCC subsystem may be disclosed to commercial collection agencies under contract with EPA, as provided by 31 U.S.C. 3718 and 40 CFR part 13, for collection Purpose(s).

3. Records maintained in the COMF-RCD subsystem may be disclosed to rental car companies as part of EPA's resolution of claims by the rental car companies for damage.

4. Records maintained in COMF-RCD may be disclosed to Federal agencies where relevant to their involvement in the rental agreement or claims arising from it.

5. Records maintained in the COMF-GAR subsystem may be disclosed to the State agency responsible for child support and/or alimony collection and enforcement, and for enforcing commercial garnishment orders.

Disclosure to consumer reporting agencies:

Disclosures pursuant to 5 U.S.C. 552a(b)(12) may be made from records maintained in the COMF-FCC subsystem to consumer reporting agencies as defined in the Fair Credit Reporting Act (15 U.S.C. 1681a(f)) or the Debt Collection Act of 1982 (31 U.S.C. 3701(a)(3)(B)).

Policies and Practices For Storing, Retrieving, Accessing, Retaining, and Disposing of Records in the System:

Storage:

In file folders in file cabinets within the Claims Office. Records are accessible through computer indexes maintained in the Claims Office.

Retrievability:

By the name of the person, corporation, local or state government or Indian tribe, and the assigned claim number. This information is maintained in computer indexes within the Claims Office.

Safeguards:

Computer records are maintained in a secure, password protected computer system. Paper records are maintained in lockable file cabinets. All records are maintained in secure, access-controlled areas or buildings.

Retention and Disposal:

COMF records are retained for ten (10) years. A resolved claim is retained within the Claims Office for five (5) years then transferred to the Federal Records Center where it is retained for an additional five (5) years. The record is destroyed by the Federal Records Center at the end of the retention period.

System Manager(s) and Address:

EPA Claims Officer, Environmental Protection Agency, Ariel Rios Building, 1200 Pennsylvania Avenue NW, Washington, DC 20460.

Notification Procedures:

Any individual who wants to know whether this system of records contains a record about him or her, who wants access to his or her record, or who wants to contest the contents of a record, should make a written request to the System Manager.

Record Access Procedure:

Requesters will be required to provide adequate identification, such as a driver's license, employee identification card, or other identifying document. Additional identification procedures may be required in some instances.

Contesting Record Procedure:

Requests for correction or amendment must identify the record to be changed and the corrective action sought. Complete EPA Privacy Act procedures are set out in 40 CFR part 16.

Record Source Categories:

Record subjects and EPA employees in their official capacities. Other sources are:

COMF-TOR—local police authorities and witnesses;

COMF-FCC—private collection agencies and credit bureaus, other Federal agencies, local officials and State employees;

COMF-MCE—law enforcement and security personnel;

COMF-GAR—State court authorities and garnishers;

COMF-RCD—rental car companies and automobile repair companies.

EPA-27

System Name:

Employee Counseling and Assistance Program Records.

System Location:

Career Resource & Counseling Center, Environmental Protection Agency, Ariel Rios Building, 1200 Pennsylvania Avenue NW, Washington, DC 20460. EPA offers counseling services to employees at regional offices through a national agreement with the Public Health Service. See the appendix for addresses of regional and other offices.

Categories of Individuals Covered by the System:

EPA employees who seek, are referred to, and/or receive assistance through the Agency Employee Counseling and Assistance Program in connection with personal or work related problems, including, but not limited to, problems related to alcohol and/or drug abuse.

Categories of Records in the System:

Records of employees who have been counseled or otherwise assisted. Information which may be found in this record system includes the employee's name, location within the Agency, sex, age, race, office telephone number, grade, job title and series; problem assessment, recommended treatment, referral source and client status; notes about counseling sessions made by the counselor; copies of admonishments and reprimands received by the employee; copies of performance appraisals received by the employee; copies of performance appraisals; and documentation of treatment from therapists, physicians, rehabilitation treatment centers and other outside private or community resources.

Authority for Maintenance of the System (includes any revisions or amendments):

42 U.S.C. 290dd-1, 290ee-1; 5 U.S.C. 7901; Executive Order 12564 (Sept. 15, 1986).

Purpose(s):

To counsel EPA employees who are experiencing personal or work related problems, including alcohol and drug abuse problems, which may affect their work performance; to document the nature of the employee's problem and the progress made, to record an employee's participation in and the results of community or private sector treatment or rehabilitation programs, and, with the employee's consent, to coordinate with appropriate supervisory or management officials concerning the progress of the employee's rehabilitation; to conduct scientific research, management and financial audits and program evaluations, but individual employees shall not be identified in any resulting reports, audits, or evaluations nor their identities further disclosed in any manner.

Routine Uses of Records Maintained in the System, Including Categories of Users, and the Purposes of Such Uses:

General routine uses F and H apply to this system. Disclosure of records pertaining to an employee's alcohol or drug abuse is restricted under the provision of the Confidentiality of Alcohol and Drug Abuse Patient Records regulations, 42 CFR part 2.

Policies and Practices For Storing, Retrieving, Accessing, Retaining, and Disposing of Records in the System:

Storage:

Paper files.

Retrievability:

By the names of the client employees and by client numbers cross-indexed by names.

Safeguards:

Computer records are maintained in a secure, password protected computer system. Paper records are maintained in lockable file cabinets. All records are maintained in secure, access-controlled areas or buildings.

Retention and Disposal:

ECAP records are retained until three years after termination of counseling or until the individual leaves the EPA and are then destroyed.

System Manager(s) and Address:

Director, Career Resource and Counseling Center, Environmental Protection Agency, Ariel Rios Building, 1200 Pennsylvania Avenue NW, Washington, DC 20460.

Notification Procedures:

Any individual who wants to know whether this system of records contains a record about him or her, who wants access to his or her record, or who wants to contest the contents of a record, should make a written request to the System Manager.

Record Access Procedure:

Requesters will be required to provide adequate identification, such as a driver's license, employee identification card, or other identifying document. Additional identification procedures may be required in some instances.

Contesting Record Procedure:

Requests for correction or amendment must identify the record to be changed and the corrective action sought. Complete EPA Privacy Act procedures are set out in 40 CFR part 16.

Record Source Categories:

Record subjects, a record subject's family, sources to whom a record subject has been referred for assistance, supervisors and other EPA officials, agency health unit, and ECAP counselors.

EPA-29

System Name:

EPA Travel, Other Accounts Payable, and Accounts Receivable Files.

System Location:

National Computer Center, Environmental Protection Agency, Research Triangle Park, North Carolina 27711; other EPA offices. See the appendix for addresses of regional and other offices.

Categories of Records in the System:

Individuals who owe monies to and individuals who are owed monies from the Environmental Protection Agency are covered by the system. This includes, but is not limited to, monies owed to EPA for refunds, penalties, travel advances, Interagency Agreements, or Freedom of Information Requests. This system also contains information on corporations and other entities that are in debt to EPA. Records on corporations and other entities are not subject to the Privacy Act. This system also includes monies owed by EPA to Agency employees, consultants, private citizens, and others who travel or perform other services for EPA.

Categories of Records in the System:

This system of records is composed of an accounts receivable module and travel and other accounts payable modules. The system contains personal identifying information such as names, addresses, and Social Security numbers of persons indebted to or owed money by EPA. The accounts receivable module contains information about the nature of the debt or claim, the amount owed, the history status of the debt, and information that relates to and documents efforts to collect debts owed the Agency. The travel and other accounts payable modules contain information about the travel authorization; travel vouchers, which support the claim for the reimbursement to the travel; travel advance authorizations, which provide fund advances to pay travel expenses incurred in the performance of official government business; and finally itemized invoices for other services performed for EPA. In both modules, banking information necessary to support electronic funds transfers may be maintained.

Authority for Maintenance of the System:

31 U.S.C. 3511-3513; 5 U.S.C. 5514; 31 U.S.C. 3702; 31 U.S.C. 3711 et seq.; Executive Order 9397 (Nov. 22, 1943).

Purpose(s):

Records in the accounts receivable module are used primarily to create a record of, and track, all accounts receivable and to assist EPA in collecting debts owed the Agency. Records in the travel and other accounts payable modules are used primarily to create a record of and to track all monies owed by the EPA for authorized travel and for other services performed for EPA.

Routine Uses of Records Maintained in the System, Including Categories of Users, and the Purposes of Such Uses:

General routine uses A, B, C, D, E, F, G, H, I, and K apply to this system. Records may also be disclosed:

1. To Union representatives when relevant and necessary to their duties as exclusive bargaining agents under the Civil Service Reform Act of 1978, 5 U.S.C. 7111, 7114.

2. To the Office of Management and Budget, and Department of Treasury for Purpose(s) of carrying out EPA's financial management responsibilities.

3. To the Defense Manpower Data Center of the Department of Defense, U.S. Postal Service, Department of the Treasury, Justice Department or other federal agencies for the Purpose(s) of identifying and locating individuals who are receiving Federal salaries or benefit payments and are delinquent in their repayment of debts owed to the U.S. Government under programs administered by EPA. The Purpose(s) of the disclosure is to collect the delinquent debts by voluntary repayment, administrative, salary, tax refund offset procedures, or through litigation. When disclosures are made as part of computer matching programs, EPA will comply with the Computer Matching and Privacy Protection Act of 1988.

4. To provide debtor information to consumer reporting agencies in order to obtain credit reports for use by EPA for debt collection Purpose(s) and to report delinquent debts.

5. To provide debtor information to debt collection agencies under contract to EPA to help collect debts owed EPA. Debt collection agencies will be required to comply with the Privacy Act and their agents will be made subject to the criminal penalty provisions of the Act.

Note: The term “debtor information” as used in the routine uses above is limited to the individual's name, address, social security number, and other information necessary to identify the individual; the amount, status and history of the claim; and the agency or program under which the claim arose.

Disclosure to consumer reporting agencies:

Pursuant to 5 U.S.C. 552a(b)(12), disclosure may be made to a consumer reporting agency as defined in the Fair Credit Reporting Act (15 U.S.C. 1681a(f)) or the Federal Claims Collection Act of 1966 (31 U.S.C. 3701(a)(30)).

Policies and Practices For Storing, Retrieving, Accessing, Retaining, and Disposing of Records in the System:

Storage:

On computer systems, tapes, disks, microfiche, and other hard copy formats. The mainframe and the computer tapes and disks are located in Research Triangle Park, North Carolina. Backup tapes are maintained at a disaster recovery site.

Retrievability:

Accounts receivable module records are indexed by account receivable control number (a number assigned to each “incoming” account receivable). Individual records can be accessed by using a cross reference table which links accounts receivable control numbers with debtors names and associated debtor information. Travel and other accounts payable module records are retrievable by name and social security number.

Safeguards:

Computer records are maintained in a secure, password protected computer system. Paper records are maintained in lockable file cabinets. All records are maintained in secure, access-controlled areas or buildings.

Retention and Disposal:

Records are maintained for at least two years. In some cases depending on program needs, records may be maintained for a longer period. Manual records are ultimately transferred to a Record Center where they are kept until disposed of in accordance with record disposal schedules.

System Manager(s) and Address:

Comptroller, Office of the Comptroller, Environmental Protection Agency, Ariel Rios Building, 1200 Pennsylvania Avenue NW, Washington, DC 20460.

Notification Procedures:

Any individual who wants to know whether this system of records contain a record about him or her, who wants access to his or her record, or who wants to contest the contents of a record, should make a written request to the System Manager.

Record Access Procedure:

Requesters will be required to provide adequate identification, such as a driver's license, employee identification card, or other identifying document. Additional identification procedures may be required in some instances.

Contesting Record Procedure:

Requests for correction or amendment must identify the record to be changed and the corrective action sought. Complete EPA Privacy Act procedures are set out in 40 CFR part 16.

Record Source Categories:

Record subjects, supervisors, consumer reporting agencies, debt collection agencies, the Department of the Treasury and other Federal agencies.

EPA-30

System Name:

OIG Hotline Allegation System.

System Location:

Office of Inspector General, Environmental Protection Agency, Ariel Rios Building, 1200 Pennsylvania Avenue NW, Washington, DC 20460.

Categories of Individuals Covered by the System:

Persons who report information to the Office of Inspector General (OIG) concerning the possible existence of activities constituting a violation of law, rules, or regulations, mismanagement, gross waste of funds, abuse of authority, or a substantial and specific danger to the public health or safety, and the subject of the complaints.

Categories of Records in the System:

Complainants who report indications of wrongdoing; name and address of the complainant (except for anonymous complainants), date complaint received, program area, nature and subject of complaint, any additional contacts and specific comments provided by the complainant; information on the OIG disposition of the complaint, including investigative case number, preliminary inquiry number, dates of referral, reply, and follow-up, and status and disposition code of the complaint.

Authority for Maintenance of the System (includes any revisions or amendments):

Inspector General Act of 1978, 5 U.S.C. app. 3; and 5 U.S.C. 301.

Purpose(s):

To conduct and supervise OIG audits and investigations relating to programs and operations of the EPA; to promote economy, efficiency, and effectiveness in the administration of such programs and operations; and to prevent and detect fraud and abuse in such programs and operations.

Routine Uses of Records Maintained in the System, Including Categories of Users, and the Purposes of Such Uses:

General routine uses A, B, C, D, E, F, G, H, I, and K apply to this system. Records may also be disclosed:

1. To any source, private or public, to the extent necessary to secure from such source information relevant to a legitimate EPA investigation, audit, decision, or other inquiry.

2. To a Federal agency responsible for considering suspension or debarment action where such record would be relevant to such action.

3. To the Department of Justice to obtain its advice on Freedom of Information Act matters.

4. In response to a lawful subpoena issued by a Federal agency.

Policies and Practices For Storing, Retrieving, Accessing, Retaining, and Disposing of Records in the System:

Storage:

Hard copy files and a computer database.

Retrievability:

By case number, complainant or subject name, and subject matter.

Safeguards:

Computer records are maintained in a secure, password protected computer system. Paper records are maintained in lockable file cabinets. All records are maintained in secure, access-controlled areas or buildings.

Retention and Disposal:

Records are retained and disposed of in accordance with EPA Records Control Schedules, Inspector General Records, approved by the National Archives and Records Administration.

System Manager(s) and Address:

Assistant Inspector General for Mission Systems, Office of Inspector General, Environmental Protection Agency, Ariel Rios Building, 1200 Pennsylvania Avenue NW, Washington, DC 20460.

Notification Procedures:

Any individual who wants to know whether this system of records contains a record about him or her, who wants access to his or her record, or who wants to contest the contents of a record, should make a written request to the System Manager. Requesters will be required to provide adequate identification, such as a driver's license, employee identification card, or other identifying document. Additional identification procedures may be required in some instances.

Record Access Procedure:

To the extent permitted under the Privacy Act of 1974, 5 U.S.C. 552a(k)(2), this system has been exempted from the provisions of the Privacy Act of 1974 that permit access and correction. However, EPA may, in its discretion, fully grant individual requests for access and correction if it determines that the exercise of these rights will not interfere with an interest that the exemption is intended to protect. The exemption from access is limited in some instances by law to information that would reveal the identity of a confidential source.

Contesting Record Procedure:

Requests for correction or amendment must identify the record to be changed and the corrective action sought. Complete EPA Privacy Act procedures are set out in 40 CFR part 16.

Record Source Categories:

Complainants who are employees of EPA; employees of other Federal agencies; employees of state and local agencies; and private citizens. Records in the system come from complainants through the telephone, mail, personal interviews, and Internet Web Site. Because security cannot be guaranteed on the Internet site, complainants are advised that information they provide through the Internet site may not be confidential.

Systems Exempted From Certain Provisions of the Act:

Pursuant to 5 U.S.C. 552a(k)(2), this system is exempt from the following provisions of the Privacy Act of 1974, subject to the limitations set forth in that subsection: 5 U.S.C. 552a (c)(3); (d); (e)(1); (e)(4)(G); (e)(4)(H); and (f)(2) through (5).

EPA-31

System Name:

Acquisition Training System.

System Location:

Office of Acquisition Management, Environmental Protection Agency, Ariel Rios Building, 1200 Pennsylvania Avenue NW, Washington, DC 20460.

Categories of Individuals in System:

EPA employees performing contract management who are subject to the Agency certification program and who are certified, as set forth in Chapter 7 of the EPA Contracts Management Manual.

Categories of Records in System:

Training records for the EPA contract manager certification program, including an individual's training history, name, title, organization, mail code, business address, work phone number, employee number, previously contract management courses, course completion dates, and interim certification status.

Authority for Maintenance of the System (includes any revisions or amendments):

Office of Federal Procurement Policy Act of 1974, 41 U.S.C. 414.

Purpose(s):

To assure a proficient contract management workforce by identifying EPA employees who are eligible to be or have been certified as Contract Managers.

Routine Uses of Records Maintained in the System, Including Categories of Users, and the Purposes of Such Uses:

General routine uses A, D, E, F, G, H, and K apply to this system.

Policies and Practices For Storing, Retrieving, Accessing, Retaining and Disposing of Records in the System:

Storage:

Computer database and hardcopy files.

Retrievability:

From the computer database by an employee's name or office mail code; from hardcopy files by an employee's name and date of training.

Safeguards:

Computer records are maintained in a secure, password protected computer system. Paper records are maintained in lockable file cabinets. All records are maintained in secure, access-controlled areas or buildings.

Retention and Disposal:

Records may be deleted from the Acquisition Training System upon the employee's separation from the Agency.

System Manager(s) and Address:

Manager, Acquisition, Training, and Oversight Service Center, Office of Acquisition Management, Environmental Protection Agency, Ariel Rios Building, 1200 Pennsylvania Avenue NW., Washington, DC 20460.

Notification Procedure:

Any individual who wants to know whether this system of records contains a record about him or her, who wants access to his or her record, or who wants to contest the contents of a record, should make a written request to the System Manager.

Record Access Procedure:

Requesters will be required to provide adequate identification, such as a driver's license, employee identification card, or other identifying document. Additional identification procedures may be required in some instances.

Contesting Record Procedure:

Requests for correction or amendment must identify the record to be changed and the corrective action sought. Complete EPA Privacy Act procedures are set out in 40 CFR part 16.

Record Source Categories:

Record subjects and EPA acquisition management officials.

EPA-32

System Name:

EPA Telecommunications Detail Records.

System Location:

National Technology Services Division, Environmental Protection Agency, Research Triangle Park, NC 27711.

Categories of Individuals Covered by the System:

EPA employees, contractors, grantees, and other persons performing services on behalf of the EPA who use telecommunications services charged to EPA.

Categories of Records in System:

Records relating to the use of EPA telecommunications services (e.g., telephone calls, video conference, 800 number calling, satellite downlinks, credit card calls), records indicating the assignment of telephone numbers to personnel, and records indicating the location of telephones.

Authority for Maintenance of the System (includes any revisions or amendments):

31 U.S.C. 1348(b).

Purpose(s):

To aid in planning its future telecommunications needs, and to control telecommunications costs by ensuring that facilities are used only for official Purpose (s)s and by determining individual accountability for telephone usage.

Routine Uses of Records Maintained in the System, Including Categories of Users, and the Purposes of Such Uses:

General routine uses A, E, F, G, H, and K apply to this system. Records may also be disclosed:

1. To a telecommunications company and/or the General Services Administration who are providing telecommunications support to verify billing or perform other servicing to the account.

Policies and Practices For Storing, Retrieving, Accessing, Retaining, and disposing of records in system:

Storage:

Mainframe computer, computer tapes, and other computer media.

Retrievability:

By originating and destination telephone numbers, responsible individuals, call date, call time, call duration, destination city and state, and calling charge.

Safeguards:

Computer records are maintained in a secure, password protected computer system. Paper records are maintained in lockable file cabinets. All records are maintained in secure, access-controlled areas or buildings.

Retention and Disposal:

Records are disposed of in accordance with the National Archives and Records Administration, General Records Schedule 12.

System Manager(s) and Address:

Director, National Technology Services Division, Environmental Protection Agency, Research Triangle Park, NC 27711.

Notification Procedures:

Any individual who wants to know whether this system of records contains a record about him or her, who wants access to his or her record, or who wants to contest the contents of a record, should make a written request to the System Manager.

Record Access Procedure:

Requesters will be required to provide adequate identification, such as a driver's license, employee identification card, or other identifying document. Additional identification procedures may be required in some instances.

Contesting Record Procedure:

Requests for correction or amendment must identify the record to be changed and the corrective action sought. Complete EPA Privacy Act procedures are set out in 40 CFR part 16.

Record Source Categories:

(1) EPA employees, contractors, grantees, and other persons who are performing services on behalf of the EPA, (2) EPA telephone assignment and Locator records, (3) GSA and other phone companies, and (4) EPA-owned Private Branch Exchange systems.

EPA-33

System Name:

Debarment and Suspension Files.

System Location:

Office of Grants and Debarment, Environmental Protection Agency, Ariel Rios Building, 1200 Pennsylvania Avenue NW., Washington, DC 20460, and Regions 1 through 10 which recommend suspension and debarment action. See the appendix for the address of regional offices.

Categories of Individuals Covered by the System:

Individuals who have been suspended, proposed for debarment, or debarred from Federal procurement and assistance programs and individuals who have been the subject of agency inquiries to determine whether they should be debarred and/or suspended from Federal procurement and assistance programs.

Categories of Records in the System:

Records include information on individuals and firms excluded or considered for exclusion from Federal acquisition or assistance programs as a result of suspension or debarment proceedings initiated by EPA. Such information includes, but is not limited to, names and addresses of individuals covered by the system of records, evidence obtained in support of Action Referral Memoranda and Case Closure Memoranda, interim decisions, compliance agreements, audits of compliance agreements, and final determinations. Examples of evidence contained in files include correspondence, inspection reports, memoranda of interviews, contracts, assistance agreements, indictments, judgment and conviction orders, plea agreements, and corporate information. Evidence may include documents containing individuals' Social Security Numbers. Computer generated records include data regarding categories and status of cases.

Authority for Maintenance of the System (includes any revisions or amendments):

Federal Property and Administrative Services Act of 1949, 41 U.S.C. 251 et seq.; Office of Federal Procurement Policy Act, 41 U.S.C. 401 et seq.; Executive Order 12549 (Feb. 18, 1986); and Executive Order 12689 (Aug. 16, 1989).

Purpose(s):

To assist EPA in assembling information on, conducting, and documenting debarment and suspension proceedings to ensure that Federal contracts and Federal assistance, loans, and benefits are awarded to responsible business entities and individuals.

Routine Uses of Records Maintained in the System, Including Categories of Users, and the Purposes of Such Uses:

General routine uses A, B, C, D, E, F, G, H, I, and K apply to this system. Records may also be disclosed:

1. To the General Services Administration (GSA) to compile and maintain the “Lists of Parties Excluded From Federal Procurement or Nonprocurement Programs” in accordance with FAR 9.404 and 40 CFR 32.500 and 32.505.

2. To organizations suspended, proposed for debarment of debarred in EPA proceedings; to the legal representatives of such organizations; and to the legal representatives of individuals suspended, proposed for debarment or debarred in EPA proceedings.

3. To a Federal, state, or local agency, financial institution, or other entity to verify an individual's eligibility for engaging in a covered transaction as defined at 40 CFR 32.200.

4. To Federal, state, or local agencies, in response to requests or subpoenas, or otherwise, for the Purpose (s) of; (a) assisting them in administering Federal acquisition, assistance, loan and benefit programs or regulatory programs, (b) assisting them in discharging their duties to ensure that Federal contracts and assistance, loans, and benefit programs are awarded to responsible individuals and organizations, and (c) ensuring that Federal, state or local regulatory responsibilities are met.

5. To the public, upon request, and to publishers of computerized legal research systems, but such disclosures shall be limited to interim or final decisions and settlement agreements.

Policies and procedures for storing, retrieving, accessing, retaining and Disposing of Records in the System:

Storage:

File folders, computer databases, and other electronic media.

Retrievability:

By name of the firm or individual and by file number.

Safeguards:

Computer records are maintained in a secure, password protected computer system. Paper records are maintained in lockable file cabinets. All records are maintained in secure, access-controlled areas or buildings.

Retention and Disposal:

Records are retained in accordance with EPA's Assistance and Interagency Agreement Records Schedule, NC1-412-85-25/7. Investigative and advocacy files are destroyed after the issuance of a final determination or entry of a compliance agreement. Audit files are retained throughout the term of the relevant compliance agreement. The official administrative record is retained in the office until three months after the period of debarment or voluntary exclusion expires, or all provisions of the compliance agreement have been completed. The official administrative record is then transferred to the Federal Records Center (FRC) for storage. Files relating to cases closed without action are also transferred to the FRC three months after the decision to close the matter. The records transferred to the FRC are destroyed when they are 6 years and 3 months old.

System Manager(s) and Address:

Director, Office of Grants and Debarment, Environmental Protection Agency, Ariel Rios Building, 1200 Pennsylvania Avenue NW, Washington, DC 20460.

Notification Procedures:

Any individual who wants to know whether this system of records contains a record about him or her, who wants access to his or her record, or who wants to contest the contents of a record, should make a written request to the System Manager.

Record Access Procedure:

Requesters will be required to provide adequate identification, such as a driver's license, employee identification card, or other identifying document. Additional identification procedures may be required in some instances.

Contesting Record Procedure:

Requests for correction or amendment must identify the record to be changed and the corrective action sought. Complete EPA Privacy Act procedures are set out in 40 CFR part 16.

Record Source Categories:

EPA and other Federal officials, state and local officials, private parties, businesses and other entities who may have information relevant to an inquiry, and individuals who have been suspended, proposed for debarment or debarred, and their legal representatives.

EPA-34

System Name:

Medical and Research Study Records of Human Volunteers.

System Location:

Human Studies Facility, Human Studies Division, National Health and Environmental Effects Research Laboratories, Office of Research and Development, Environmental Protection Agency, 104 Mason Farm Road, Chapel Hill, NC 27599.

Categories of Individuals Covered by the System:

Individuals who volunteer for participation in EPA-sponsored, human studies research, whether or not they are accepted for participation, and individuals who participate in the research.

Categories of Records in the System:

Names, addresses, telephone numbers of individual volunteers; individual vital statistics; medical histories; psychological profiles; results of laboratory tests; results of participation in specific research studies; and related records pertinent to the human subject research program.

Authority for Maintenance of the System (includes any revisions or amendments):

Resource Conservation and Recovery Act, 42 U.S.C. 6981; Comprehensive Environmental Response, Compensation and Liability Act, 42 U.S.C. 9660; Clean Air Act, 42 U.S.C. 7403; Safe Drinking Water Act, 42 U.S.C. 300j-1; Federal Water Pollution Control Act, 33 U.S.C. 1254; Toxic Substances Control Act, 15 U.S.C. 2609; Federal Insecticide, Fungicide, and Rodenticide Act, 7 U.S.C. 136r.

Purpose(s):

To support the EPA regulatory process by providing scientific information on the health effects of environmental pollutants; to screen volunteers to protect them from unnecessary health risks, to document their medical condition, and to document the specific research activities in which the subjects participated.

Routine Uses of Records Maintained in the System, Including Categories of Users, and the Purposes of Such Uses:

General routine uses D, E, F, H, and K apply to this system. Records may also be disclosed:

1. To scientists at governmental or private institutions, research centers, or businesses who assist with EPA research projects or who conduct related research (normally peer reviewed and institutional review board approved) that can benefit from access to EPA research records.

2. To public health authorities in conformity with federal, state, and local laws when necessary to protect the public health. Individuals whose records might be disclosed under this authority are normally notified of the possibility of disclosure through informed consent agreements.

Policies and procedures for storing, retrieving, retaining and Disposing of Records in the System:

Storage:

In file folders, on index cards, and in an electronic database. Some records may also be stored off site in a secure facility maintained by a contractor to the EPA Human Studies Division.

Retrievability:

By name and by identifying numbers assigned for each project.

Safeguards:

Electronic records are maintained in a secure, password protected electronic system. Paper records are maintained in lockable file cabinets. All records are maintained in secure, access-controlled areas or buildings.

Retention and Disposal:

The records are permanently maintained.

System Manager(s) and Address:

Director, Human Studies Facility, Human Studies Division, National Health and Environmental Effects Research Laboratories, Office of Research and Development, Environmental Protection Agency, 104 Mason Farm Road, Chapel Hill, NC 27599.

Notification Procedures:

Any individual who wants to know whether this system of records contains a record about him or her, who wants access to his or her record, or who wants to contest the contents of a record, should make a written request to the System Manager.

Record Access Procedure:

Requesters will be required to provide adequate identification, such as a driver's license, employee identification card, or other identifying document. Additional identification procedures may be required in some instances.

Contesting Record Procedure:

Requests for correction or amendment must identify the record to be changed and the corrective action sought. Complete EPA Privacy Act procedures are set out in 40 CFR part 16.

Record Source Categories:

Research subjects. Medical records of a research subject may be obtained occasionally with the consent of the research subject.

EPA-35

System Name:

EPA Transit and Guaranteed Ride Home Program Files.

System Location:

Transportation Management Section, Facilities Management and Services Division, Environmental Protection Agency, Ariel Rios Building, 1200 Pennsylvania Avenue NW, Washington, DC 20460. Records may also be maintained in regional offices. See the appendix for the address of regional and other offices.

Categories of Individuals Covered by the System:

EPA employees apply for and participate in the EPA Transit Subsidy Program and the Guaranteed Ride Home Program.

Categories of Records in the System:

Name, social security number, home address, grade level, office address and phone number, current and proposed commuting pattern, estimated monthly commuting cost, certification and recertification forms, and other information related to carrying out activities under the transit subsidy program.

Authority for Maintenance of the System (includes any revisions or amendments):

Federal Employees Clean Air Incentives Act, 5 U.S.C. 7905; and Executive Order 9397 (Nov. 22, 1943).

Purpose(s):

To manage the EPA Transit Subsidy Program, including receipt and processing of employee applications and distribution of the fare media to employees; to track the use of appropriated funds used to support the program; and to evaluate employee participation in the program.

Routine Uses of Records Maintained in the System, Including Categories of Users, and the Purposes of Such Uses:

General routines uses A, E, F, G, H, and K apply to this system. Records may also be disclosed:

1. To federal, state, or local agencies to detect unauthorized payments, fraud and abuse, or recoup improper payments in transit subsidy programs.

Policies and Practices For Storing, Retrieving, Accessing, Retaining, and Disposing of Records in the System:

Storage:

In a computer database and in file folders.

Retrievability:

By name and the first four digits of the social security number.

Safeguards:

Computer records are maintained in a secure, password protected computer system. Paper records are maintained in lockable file cabinets. All records are maintained in secure, access-controlled areas or buildings.

Retention and Disposal:

Records are retained for a maximum of two years following the last month of an employee's participation in the EPA Transit Subsidy Program. Shredding destroys paper copies. Computer files are destroyed by deleting the record from the file.

System Manager(s) and Address:

Team Leader, Transportation Management Section, Facilities Management and Services Division, Environmental Protection Agency, Ariel Rios Building, 1200 Pennsylvania Avenue NW, Washington, DC 20460.

Notification Procedures:

Any individual who wants to know whether this system of records contains a record about him or her, who wants access to his or her record, or who wants to contest the contents of a record, should make a written request to the System Manager.

Record Access Procedure:

Requesters will be required to provide adequate identification, such as a driver's license, employee identification card, or other identifying document. Additional identification procedures may be required in some instances.

Contesting Record Procedure:

Requests for correction or amendment must identify the record to be changed and the corrective action sought. Complete EPA Privacy Act procedures are set out in 40 CFR Part 16.

Record Source Categories:

Record subjects.

EPA-36

System Name:

Research Grant, Cooperative Agreement, and Fellowship Application Files.

System Location:

National Center for Environmental Research, Office of Research and Development, Environmental Protection Agency, Ariel Rios Building, 1200 Pennsylvania Avenue NW, Washington, DC 20460.

Categories of Individuals Covered by the System:

Individuals (principal investigators and fellows) who request or have previously requested support from the ORD research grants programs, either individually or through an academic institution, state agency, or non-profit organization.

Categories of Records in the System:

Names of the principal investigators, research proposals and their identifying numbers, supporting data from the academic institutions or other applicants, proposal evaluations from peer reviewers, review records, financial data, and other material related to evaluation of applications.

Authority for Maintenance of the System (includes any revisions or amendments):

Federal Grant and Cooperative Agreement Act, 31 U.S.C. 6301 et seq.; Clean Air Act, 42 U.S.C. 1857 et seq.; Federal Water Pollution Control Act, 33 U.S.C. 1254 et seq.; Public Health Service Act, 42 U.S.C. 241 et seq.; Solid Waste Disposal Act, 42 U.S.C. 6901 et seq.; Federal Insecticide, Fungicide, and Rodenticide Act, 7 U.S.C. 136 et seq.; Safe Drinking Water Act, 42 U.S.C. 300j-1; Toxic Substances Control Act, 15 U.S.C. 2609, Comprehensive Environmental Response, Compensation, and Liability Act, 42 U.S.C. 9660. Other laws may be relevant as well.

Purpose(s):

To assist EPA in conducting and documenting the receipt and review of applications and award of research grants to the most meritorious applicants in response to solicitations issued by the Office of Research and Development in furtherance of its Science to Achieve Results (STAR) program.

Routine Uses of Records Maintained in the System, Including Categories of Users, and the Purposes of Such Uses:

General routine uses A, B, C, D, E, F, G, H, and K apply to this system. Records may also be disclosed:

1. To qualified reviewers retained by EPA for their opinion and evaluation of applicants and their proposals as part of the application review process.

2. To other Federal government agencies and private-sector organizations regarding applicants in order to coordinate joint grant programs between Federal agencies, State or local government agencies, and/or private-sector organizations.

3. To the applicant institution to obtain data for use in reviewing applications, awarding grants, or administering grants.

Policies and Practices For Storing, Retrieving, Accessing, Retaining, and Disposing of Records in the System:

Storage:

Electronic databases and hard copy files.

Retrievability:

Electronic files may be retrieved by most data elements in the database (primarily by topic area and assistance number). Retrieval by name of principal investigator is reserved to the system manger.

Safeguards:

Electronic records are maintained in a secure, password protected electronic system. Paper records are maintained in lockable file cabinets. All records are maintained in secure, access-controlled areas or buildings.

Retention and Disposal:

Hard copies of awarded proposals are transferred to the Federal Records Center one year after closeout where they are retained for an additional six years. Hard copies of declined proposals are destroyed three years after they are declined.

System Manager(s) and Address:

Director, Peer Review Division, National Center for Environmental Research, Office of Research and Development, Environmental Protection Agency, Environmental Protection Agency, Ariel Rios Building, 1200 Pennsylvania Avenue NW, Washington, DC 20460.

Notification Procedures:

Any individual who wants to know whether this system of records contains a record about him or her, who wants access to his or her record, or who wants to contest the contents of a record, should make a written request to the System Manager.

Record Access Procedure:

Requesters will be required to provide adequate identification, such as a driver's license, employee identification card, or other identifying document. Additional identification procedures may be required in some instances.

Contesting Record Procedure:

Requests for correction or amendment must identify the record to be changed and the corrective action sought. Complete EPA Privacy Act procedures are set out in 40 CFR part 16.

Record Source Categories:

Academic institutions, principal investigators, other applicants, peer reviewers, and EPA and other Federal agency personnel.

Systems exempted from certain provisions of the act:

Pursuant to 5 U.S.C. 552a(k)(5), this system is exempt from the following provisions of the Privacy Act, subject to the limitations set forth in that subsection: 5 U.S.C. 552a(c)(3) and (d).

EPA-37

System Name:

ORD Peer Review Panelist Information System (PRPIS) System.

System Location:

National Center for Environmental Research, Office of Research and Development, Environmental Protection Agency, Ariel Rios Building, 1200 Pennsylvania Avenue NW, Washington, DC 20460.

Categories of Individuals Covered by the System:

Peer reviewers who may be retained by EPA to evaluate grant, fellowship, and cooperative agreement applicants and their applications.

Categories of Records in the System:

Names of peer reviewers, supporting data about their academic institutions or other institutional affiliations, proposal evaluations from peer reviewers, review records, contract and financial data, committee or panel discussion summaries, and other agency records containing or reflecting comments on the applications or the applicants from peer reviewers.

Authority for Maintenance of the System (includes any revisions or amendments):

Federal Grant and Cooperative Agreement Act, 31 U.S.C. 6301 et seq.; Clean Air Act, 42 U.S.C. 1857 et seq.; Federal Water Pollution Control Act, 33 U.S.C. 1254 et seq.; Public Health Service Act, 42 U.S.C. 241 et seq.; Solid Waste Disposal Act, 42 U.S.C. 6901 et seq.; Federal Insecticide, Fungicide, and Rodenticide Act, 7 U.S.C. 136 et seq.

Purpose(s):

To assist EPA conduct and document review of applications for research grants, cooperative agreements, and fellowships through the use of peer reviewers from the scientific community.

Routine Uses of Records Maintained in the System, Including Categories of Users, and the Purposes of Such Uses:

General routine uses A, B, E, F, G, H, and K apply to this system.

Records may also be disclosed:

1. To Federal government agencies that cooperate with EPA in joint grant programs.

Policies and Practices For Storing, Retrieving, Accessing, Retaining, and Disposing of Records in the System:

Storage:

Electronic database and on CD-ROM.

Retrievability:

By the name and subject related characteristics of peer reviewers.

Safeguards:

Electronic records are maintained in a secure, password protected electronic system. Paper records are maintained in lockable file cabinets. All records are maintained in secure, access-controlled areas or buildings.

Retention and Disposal:

File is cumulative and is maintained indefinitely.

System Manager(s) and Address:

Director, Peer Review Division, National Center for Environmental Research, Office of Research and Development, Environmental Protection Agency, Ariel Rios Building, 1200 Pennsylvania Avenue NW, Washington, DC 20460.

Notification Procedures:

Any individual who wants to know whether this system of records contains a record about him or her, who wants access to his or her record, or who wants to contest the contents of a record, should make a written request to the System Manager.

Record Access Procedure:

Requesters will be required to provide adequate identification, such as a driver's license, employee identification card, or other identifying document. Additional identification procedures may be required in some instances.

Contesting Record Procedure:

Requests for correction or amendment must identify the record to be changed and the corrective action sought. Complete EPA Privacy Act procedures are set out in 40 CFR part 16.

Record Source Categories:

Record subjects, and EPA and other Federal agency personnel.

EPA-38

System Name:

Invention Reports Submitted to the EPA.

System Location:

Office of General Counsel, Environmental Protection Agency, Ariel Rios Building, 1200 Pennsylvania Avenue NW, Washington, DC 20460. Invention reports from contractors, subcontractors, grantees, and cooperative agreement recipients are submitted to and maintained on behalf of EPA by the Office of Policy for Extramural Research Administration, National Institutes of Health, Bethesda, Maryland, in the Extramural Invention Information Management System (code-named Edison).

Categories of Individuals Covered by the System:

EPA employees and employees of contractors, subcontractors, grantees, cooperative agreement recipients (40 CFR part 30), and parties to cooperative research and development agreements (15 U.S.C. 3710a) who have submitted invention reports to EPA.

Categories of Records in the System:

Invention reports, patent applications, patents, patent assignments, licenses, procurement requests, Government purchase orders, and other documents relevant to inventions made under EPA sponsorship.

Authority for Maintenance of the System (includes any revisions or amendments):

Executive Order 9865 (June 14, 1947), Executive Order 10096 (Jan. 23, 1950), 35 U.S.C. Ch. 18 (Patent Rights in Inventions Made with Federal Assistance), 37 CFR parts 401, 404, and 501; 40 CFR part 30, 48 CFR parts 27 and 52; 15 U.S.C. 3710a.

Purpose(s):

Records are maintained for the Purpose (s) of documenting inventions made under EPA sponsorship, including filing patent applications, determining rights to inventions, licensing inventions, and ascertaining inventorship and priority of invention.

Routine Uses of Records Maintained in the System, Including Categories of Users, and the Purposes of Such Uses:

General routine uses A, D, E, F, G, H, I, and K apply to this system. Records may also be disclosed:

1. To scientific personnel who possess the expertise to understand the invention and evaluate its importance to the Government and/or the public.

2. To contract patent counsel and their employees retained by the Agency for patent searching, preparation and prosecution of United States and foreign patent applications.

3. To Government agencies that we contact regarding possible use, interest in or ownership rights in our inventions.

4. To technology assistance personnel, technology evaluators, technology finders, and prospective licensees who may further make the invention available to the public through evaluation, promotion, sale, use, or publication.

5. To parties, such as supervisors of inventors, whom we contact to determine ownership rights, and to people contacting us to determine the Government's ownership.

6. To the United States and foreign Patent and Trademark Offices when we file U.S. and foreign patent applications.

Policies and Practices For Storing, Retrieving, Accessing, Retaining and Disposing of Records in the System:

Storage:

Individual file folders in file cabinets and indexed on computer tracking system.

Retrievability:

By inventor's name, case identification number, and patent application number or patent number.

Safeguards:

Computer records are maintained in a secure, password protected computer system. Paper records are maintained in lockable file cabinets. All records are maintained in secure, access-controlled areas or buildings.

Retention and Disposal:

The records are maintained for fifteen years after completion or termination of action on the disclosed invention, such as issuance of a patent. The records are maintained at EPA for approximately three and are then sent to a Federal Records Center for the remainder of the applicable retention period.

System Manager(s) and Address:

General Counsel, Environmental Protection Agency, Ariel Rios Building, 1200 Pennsylvania Avenue NW, Washington, DC 20460.

Notification Procedures:

Any individual who wants to know whether this system of records contains a record about him or her, who wants access to his or her record, or who wants to contest the contents of a record, should make a written request to the System Manager.

Record Access Procedure:

Requesters will be required to provide adequate identification, such as a driver's license, employee identification card, or other identifying document. Additional identification procedures may be required in some instances.

Contesting Record Procedure:

Requests for correction or amendment must identify the record to be changed and the corrective action sought. Complete EPA Privacy Act procedures are set out in 40 CFR part 16.

Record Source Categories:

Invention report submitters and their supervisors; other persons with knowledge of the invention or expertise in the particular area of the invention; EPA Patent Counsel; EPA contractors who have searched the invention, prepared a patent application on the invention and/or otherwise performed work relating to a patent application; and the United States and foreign patent offices.

EPA-39

System Name:

Superfund Cost Recovery Accounting Information System.

System Location:

Office of the Comptroller, Office of the Chief Financial Officer, Financial Management Division, Environmental Protection Agency, Ariel Rios Building, 1200 Pennsylvania Avenue NW, Washington, DC 20460.

Categories of Individuals Covered by the System:

Current and past employees, contractors, and consultants involved in Superfund activities.

Categories of Records in the System:

Name, identification number, hours worked during pay period, work activity classification, travel expenses, and any other recoverable expense items.

Authority for Maintenance of the System (includes any revisions or amendments):

Comprehensive Environmental Response, Compensation, and Liability Act of 1980, 42 U.S.C. 9607; 5 U.S.C. 301; 31 U.S.C. 3512; Executive Order 9397 (Nov. 22, 1943).

Purpose(s):

To support identification and recovery of the costs of Superfund activities.

Routine Uses of Records Maintained in the System, Including Categories of Users, and the Purposes of Such Uses:

General routine uses A, D, E, F, G, H, I, and K apply to this system.

Policies and Practices For Storing, Retrieving, Accessing, Retaining, and Disposing of Records in the System:

Storage:

On paper and in a computerized database.

Retrievability:

By employee number, name, organization; Superfund site, and transaction date.

Safeguards:

Computer records are maintained in a secure, password protected computer system. Paper records are maintained in lockable file cabinets. All records are maintained in secure, access-controlled areas or buildings.

Retention and Disposal:

Paper and computer records may be kept indefinitely.

System Manager(s) and Address:

Director, Financial Management Division, Environmental Protection Agency, Ariel Rios Building, 1200 Pennsylvania Avenue NW, Washington, DC 20460.

Notification Procedures:

Any individual who wants to know whether this system of records contains a record about him or her, who wants access to his or her record, or who wants to contest the contents of a record, should make a written request to the System manager.

Record Access Procedure:

Requesters will be required to provide adequate identification, such as a driver's license, employee identification card, or other identifying document. Additional identification procedures may be required in some instances.

Contesting Records Procedure:

Requests for correction or amendment must identify the record to be changed and the corrective action sought. Complete EPA Privacy Act procedures are set out in 40 CFR part 16.

Record Source Categories:

Record subjects.

Appendices to Systems of Records Notices:

1. List Of Addresses For EPA Regional And Other Offices

Region I: One Congress Street, Suite 1100 Boston, MA 02203.

Region II: 290 Broadway, New York, NY 10007.

Region III: 1650 Arch Street, Philadelphia, PA 19103.

Region IV: 61 Forsyth Street, SW., Atlanta, GA 30303.

Region V: 77 West Jackson Boulevard, Chicago, IL 60604.

Region VI: 1445 Ross Avenue, Suite 1200, Dallas, Texas 75202.

Region VII: 726 Minnesota Avenue, Kansas City, KS 66101.

Region VIII: 999 18th Street, Suite 500, Denver, CO 80202.

Region IX: 75 Hawthorne Street, San Francisco, CA 94105.

Region X: 1200 Sixth Avenue, Seattle, WA 98101.

Other EPA offices:

New England Regional Laboratory, 60 Westview Street, Lexington, MA 02173.

Atlantic Ecology Division, 27 Tarzwell Drive, Narragansett, RI 02882.

Criminal Investigation Division, New Haven Resident Office, Robert Giamo Federal Building, 150 Court Street, Room 433, New Haven, CT 06507.

Environmental Services Division, 2890 Woodbridge Avenue, Building 10, Edison NJ 08837.

New Hampshire Resident Office, Hampshire Plaza, 1000 Elm Street, P.O. Box 1507, Manchester, NH 03105.

Communications Division, Niagara Falls Public Information Center, 345 Third Street, Suite 530, Niagara Falls, NY 14303.

Division of Environmental Planning and Protection, Long Island Sound Office, Stamford Government Center, 888 Washington Boulevard, Stamford, CT 06904

Caribbean Environmental Protection Division, Centro Europa Building, 1492 Ponce De Leon Avenue, Santruce, PR 00907.

Caribbean Environmental Protection Division, Virgin Islands Coordinator Office, Federal Office Building & Courthouse, St. Thomas, VI 00802.

Criminal Investigation Division, Edison Resident Office, 2890 Woodbridge Avenue, Edison, NJ 08837.

Criminal Investigation Division, Buffalo Resident Office, 138 Delaware Avenue, Buffalo, NY14202.

Criminal Investigation Division, Syracuse Resident Office, Hanley Federal Building, 100 S. Clinton Street, 9th Floor, Syracuse, NY 13261.

Environmental Response Team Center, 2890 Woodbridge Avenue, Edison, NJ 08837.

Urban Watershed Management Branch, 2890 Woodbridge Avenue, Edison, NJ 08837.

Trenton Resident Office, US Courthouse Annex, Room 3050, 402 East State Street, Trenton, NJ 08608.

Office of Analytical Services and Quality Assurance Laboratory, 701 Mapes Road, Fort Meade, MD 20755.

Wheeling Office, 303 Methodist Building, 11th and Chapline Streets, Wheeling, WV 26003.

Quality Assurance Office, 701 Mapes Road, Fort Meade, MD 20755.

Chesapeake Bay Program, Annapolis City Marina, 701 Mapes Road, Fort Meade, MD 20755.

Annapolis Operations, 2530 Riva Road, Annapolis, MD 21401.

Analytical Chemistry Laboratory, Building 701 Mapes Road, Fort Meade, MD 20755.

Washington Area Office, 1100 Wilson Boulevard, Arlington, VA 22209.

Environmental Photographic Interpretation Center, 12201 Sunrise Valley Drive, 555 National Center, Reston, VA 20192.

Criminal Investigation Division, Wheeling Resident Office, Methodist Building, 1060 Chapline Street, Wheeling, WV 26003.

Criminal Investigation Division, Annapolis Resident Office, 701 Mapes Road, Fort Meade, MD 20755.

Science and Ecostytems Support Division, 980 College Station Road, Athens, GA 30605.

South Florida Office, 400 North Congress Avenue, West Palm Beach, FL 33401.

Gulf of Mexico Program Office, Building 1103, Stennis Space Center, MS 39529.

Environmental Chemistry Laboratory, Building 1105, Stennis Space Center, MS 39529.

Criminal Investigation Division, Jackson Resident Office, 245 East Capitol Street, Suite 534, Jackson, MS 39201.

National Air and Radiation Environmental Laboratory, 540 South Morris Avenue, Montgomery, AL 36115.

Criminal Investigation Division, Charleston Resident Office, 170 Meeting Street, Suite 300, Charleston, SC 29402.

National Exposure Research Laboratory, MD-75, Research Triangle Park, NC 27711.

Air Pollution Prevention and Control Division, Research Triangle Park, NC 27711.

Office of Air Quality Planning and Standards, 411 West Chapel Hill Street, Durham, NC 27701.

Environmental Research Laboratory, 960 College Station Road, Athens, GA. 30605.

Human Studies Division, Clinical Research Branch, Health Effects Research Laboratory, Mason Farm Road, Chapel Hill, NC 27599.

Criminal Investigation Division, Charlotte Resident Office, 227 West Trade Street, Carillon Building, Charlotte, NC 28202.

National Health and Environmental Effects Research Laboratory, Gulf Ecology Division, 1 Sabine Island Drive, Gulf Breeze, FL 32561.

National Center for Environmental Assessment, 3200 Highway 54, Research Triangle Park, NC 27711.

National Health and Environmental Effects Research Laboratory, Research Triangle Park, NC 27711.

Office of Administration and Resources Management, 79TW Alexander Drive, Research Triangle Park, NC 27711.

Office of Inspector General, Washington Field Division, RTP Sub Office, Catawba Building, Research Triangle Park, NC 27711.

Area Office of Civil Rights, Building 4201, 79 Alexander Drive, Research Triangle Park, NC 27711.

Criminal Investigation Division, Miami Resident Office, Brickell Plaza Federal Building, 909 SE First Street, Suite 700, Miami, FL 33121.

Criminal Investigation Division, Nashville Resident Office, Cordell Hull Building, 2nd Floor, 425 5th Avenue, North, Nashville, TN 37243.

Criminal Investigation Division, Knoxville Resident Office, 800 Market Street, Suite 211, Knoxville, TN 37902.

Criminal Investigation Division, Louisville Resident Office, 600 Martin Luther King, Jr. Place, Louisville, KY 40202.

RTP Financial Management Center, 79 TW Alexander Drive, Administration Building, Research Triangle Park, NC 27711.

Criminal Investigation Division, Tampa Resident Office, 400 North Tampa Street, Rm. 3123, Tampa, FL 33602.

Criminal Investigation Division, Jacksonville Resident Office, 325 W. Adams Street, Suite 303, Jacksonville, FL 32202.

Eastern District Office, 25089 Central Ridge Road, Westlake, OH 44145.

National Exposure Research Laboratory, Microbiological and Chemical Exposure Assessment Research Division, 26 West Martin Luther King Drive, Cincinnati, OH 45268.

Center for Environmental Research Information, 26 West Martin Luther King Drive, Cincinnati, OH 45268.

National Center for Environmental Assessment Office, 26 West Martin Luther King Drive, Cincinnati, OH 45268.

Emergency Response Section One, 9311 Groh Road, Gross Ile, MI 48138.

Environmental Research Center, 26 West Martin Luther King Drive, Cincinnati, OH 45268.

National Risk Management Research Laboratory, 26 West Martin Luther King Drive, Cincinnati, OH 45268.

ORD Publications Office, Center for Environmental Research Information, 26 West Martin Luther King Drive, Cincinnati, OH 45268.

Cleveland Area Office, Islander Office Park, Building One, 7550 Lucerne Drive, Suite 305, Middleburg Heights, OH 44130.

National Vehicle and Fuel Emissions Laboratory, 2565 Plymouth Road, Ann Arbor, MI 48105.

Mid Continent Ecology Division, 6201 Congdon Boulevard, Duluth, MN 55804.

Area Office of Civil Rights, 26 West Martin Luther King Drive, Cincinnati, OH 45268.

Office of Senior Official for Research and Development, 26 West Martin Luther King Drive, Cincinnati, OH 45268.

Research Triangle Park Financial Management Center, 79 TW Alexander Drive, Research Triangle Park, NC 22771.

Criminal Investigation Division, Detroit Resident Office, 9311 Groh Road, Gross Ile, MI 48138.

Criminal Investigation Division, Indianapolis Resident Office, US Courthouse, 46 East Ohio Street, Indianapolis, IN 46204.

Great Lakes Research Station, 9311 Groh Road, Gross Ile, MI 48138.

National Environmental Supercomputing Center, 135 Washington Avenue, Bay City, MI 48708.

Cincinnati Financial Management Center, Cincinnati, OH 45268.

Criminal Investigation Division, Minneapolis Resident Office, 300 South 4th Street, Minneapolis, MN 55415.

Criminal Investigation Division, Chicago Area Office, 300 S. Riverside, Chicago, IL 60606.

USEPA Region 6 Laboratory, Houston Branch, 10625 Fallstone Road, Houston, TX 77099.

U.S. Mexico Border Program Office, 4050 Rio Bravo, El Paso, TX 79902.

USEPA Underground Injection Control, Pawhuska Section, PO Box 1495, Pawhuska, OK 74056.

Brownsville Border Office, 3505 Boca Chica, Brownsville, TX 78251.

National Risk Management Research Laboratory, Subsurface Protection and Remediation Division, Robert S. Kerr Environmental Research Center, PO Box 1198, Ada, OK 74821.

Criminal Investigation Division, Houston Area Office, 1919 Smith Street, Suite 925, Houston, TX 77002.

Criminal Investigation Division, Albuquerque Resident Office, 3305 Calle Cuervo, NW, #325, Albuquerque, NM 87114.

Criminal Investigation Division, Baton Rouge Resident Office, 750 Florida Street, Baton Rouge, LA 70801.

Environmental Services Division, 25 Funston Road, Kansas City, KS 66115.

Criminal Investigation Division St. Louis Area Office, 1222 Spruce, St. Louis, MO 63103.

Criminal Investigation Division, Kansas City Resident Office, US Courthouse, 500 State Avenue, Kansas City, KS 66101.

Montana Operations Office, Federal Building, 301 South Park, Helena, MT 59286.

National Enforcement Investigations Center, Building 53, Denver, CO 80225.

Office of Enforcement Compliance and Assurance, Mobile Source Enforcement, Western Field Office, 12345 West Alameda Parkway, Lakewood, CO 80228.

Center for Strategic Environmental Enforcement, 12345 West Alameda Parkway, Lakewood, CO 80228.

USEPA Region 8, Denver Federal Center, Laboratory Services Program, Building 53, Denver, CO 80225.

National Enforcement Training Institute West, 12345 West Alameda Parkway, Lakewood, CO 80228.

Criminal Investigation Division, Helena Resident Office, 301 South Park, Helena, MT 59626.

Criminal Investigation Division, Salt Lake City Resident Office, Wallace F. Bennett Federal Building, 125 South State Street, Salt Lake City, UT 84138.

Pacific Island Contact Office, P.O. Box 50003, 300 Ala Moana Boulevard, Honolulu, HI 96850.

Honolulu Resident Office, 449 South Ave., Bldg. 221, 2nd Floor, Pearl Harbor, HI 96860.

San Diego Border Office, 610 West Ash Street, San Diego, CA 92101.

USEPA Region 9 Laboratory, 1337 South 46th Street, Richmond, CA 94804.

Los Angeles Area Office, 600 South Lake Ave., Suite 202, Pasadena, CA 91106.

Area Office of Civil Rights, P.O. Box 93478, Las Vegas, NV 89193.

Human Resources Office at Las Vegas, P.O. Box 98516, Las Vegas, NV 89193.

Criminal Investigation Division, Sacramento Resident Office, 501 Eye Street, Suite 9-800, Sacramento, CA 95814.

Office of Inspector General for Audits, Western Division, Sacramento Field Audit Office, 801 I Street, Sacramento, CA 95814.

Criminal Investigation Division, San Diego Resident Office, 610 West Ash Street, San Diego, CA 92101.

Environmental Sciences Division, National Exposure Research Laboratory, P.O. Box 93478, Las Vegas, NV 89193.

Las Vegas Financial Management Center, P.O. Box 98515, Las Vegas, NV 89193.

Criminal Investigation Division, 600 South Lake Avenue, Pasadena, CA 91106.

Radiation and Indoor Environments National Laboratory, P.O. Box 98517, Las Vegas, NV 89193.

Criminal Investigation Division, 522 North Central Avenue, Phoenix, AZ 85004.

Alaska Operations Office, Federal Building, 222 West 7th Avenue, Anchorage, AK 99513.

Alaska Operations Office, 410 Willoughby Avenue, Juneau, AK 99801.

Oregon Operations Office, 811 S.W. Sixth Avenue, Portland, OR 97204.

Hanford Project Office, 712 Swift Boulevard, Richland, WA 99352.

Idaho Operations Office, 1435 North Orchard Street, Boise, ID 83706.

Boise Resident Office, 877 West Main St., Suite 201, Boise, ID 83702.

Manchester Laboratory, 7411 Beach Drive East, Port Orchard, WA 98366.

Washington Operations Office, 300 Desmond Drive SE, Lacey, WA 98503.

National Health and Environmental Effects Research Laboratory, Western Ecology Division, 200 S.W. 35th Street, Corvallis, OR 97333.

National Health and Environmental Effects Research Laboratory, Western Ecology Division, Hatfield Marine Science Drive, 211 S.E. Marine Science Drive, Newport, OR 98365.

Criminal Investigation Division, Portland Resident Office, 1001 South West 5th Avenue, Portland, OR 97204.

Criminal Investigation Division, Anchorage Resident Office, 222 West 7th Avenue, Anchorage, AK 99513.

[FR Doc. 02-3921 Filed 2-21-02; 8:45 am]

BILLING CODE 6560-50-P